DEPARTMENT OF LABOR

Employment and Training Administration

[TA-W-41,174]

Ketcham Diversified Tooling, Inc., Cambridge Springs, PA; Notice of Termination of Investigation

Pursuant to section 221 of the Trade Act of 1974, an investigation was initiated on March 25, 2002, in response to a worker petition which was filed by the company on behalf of workers at Ketcham Diversified Tooling, Inc., Cambridge Springs, Pennsylvania.

The petitioner has requested that the petition be withdrawn. Consequently, further investigation in this case would serve no purpose, and the investigation has been terminated.

Signed in Washington, DC this 11th day of April, 2002.
Linda G. Poole,
Certifying Officer, Division of Trade Adjustment Assistance.

[FR Doc. 02-9739 Filed 4-19-02; 8:45 am]

BILLING CODE 4510-30-M